ENVIRONMENTAL PROTECTION AGENCY

[FRL OP-OFA-134]

Environmental Impact Statements; Notice of Availability

Responsible Agency: Office of Federal Activities, General Information 202-564-5632 or https://www.epa.gov/nepa.

Weekly receipt of Environmental Impact Statements (EIS)

Filed June 28, 2024 10 a.m. EST Through July 8, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240120, Draft, USAF, FL, Expansion of Childcare Services North of the Eglin Test and Training Complex, Eglin Air Force Base, Florida, Comment Period Ends: 08/26/2024, Contact: Nick Post 210-925-3516.

EIS No. 20240121, Draft, BIA, CA, Koi Nation Shiloh Resort and Casino Project, Comment Period Ends: 08/26/2024, Contact: Chad Broussard 916-978-6165.

EIS No. 20240122, Final, BOP, KY, Proposed Development of a New Federal Correctional Institution and Federal Prison Camp—Letcher County, KY, Review Period Ends: 08/12/2024, Contact: Kimberly Hudson 202-616-2574.

EIS No. 20240123, Draft, USFS, ID, End of the World Project, Comment Period Ends: 08/26/2024, Contact: Jeffrey Shinn 208-839-2103.

Amended Notice

EIS No. 20240115, Final, USCG, TX, Texas Gulflink Deepwater Port License Application, Review Period Ends: 08/19/2024, Contact: Patrick Clark 202-372-1358.

Revision to FR Notice Published 7/5/2024; Correcting the Lead Agency from MARAD and USCG to only USCG and moving MARAD to a cooperating agency.

Dated: July 8, 2024.
Nancy Abrams,
Associate Director, Office of Federal Activities.

[FR Doc. 2024-15331 Filed 7-11-24; 8:45 am]

BILLING CODE 6560-50-P